DEPARTMENT OF STATE

[Public Notice 4780]

Notice of Receipt of Cultural Property Request from the Government of the People's Republic of China

The Government of the People's Republic of China, concerned that its cultural heritage is in jeopardy from pillage, made a request to the Government of the United States under Article 9 of the 1970 UNESCO Convention. The request was received on May 27, 2004, by the United States Department of State. It seeks U.S. import restrictions on Chinese archaeological material from the Paleolithic to the Qing Dynasty including, but not limited to, certain categories of metal implements, weapons, vessels, sculpture, and jewelry; pottery and porcelain vessels, sculpture, and architectural elements; stone implements, weapons, vessels, sculpture, jewelry and architectural elements; painting and calligraphy; textiles; lacquer; bone, ivory and horn wares; and wood and bamboo objects.

Information about the Act and U.S. implementation of the 1970 UNESCO Convention can be found at http://exchanges.state.gov/culprop. A public summary of the China Request will be posted on the web site.

Dated: August 26, 2004.
C. Miller Crouch,
Acting Assistant Secretary for Educational and Cultural Affairs, Department of State.

[FR Doc. 04-20146 Filed 9-2-04; 8:45 am]

BILLING CODE 4710-11-P